DEPARTMENT OF TRANSPORTATION

Surface Transportation Board

[STB Finance Docket No. 34958]

Nevada Pacific Railroad Corporation—Lease and Operation Exemption—Rail Lines of Pan Western Corporation

Nevada Pacific Railroad Corporation (NPRC),¹ a noncarrier, has filed a verified notice of exemption under 49 CFR 1150.31 to lease from Pan Western Corporation (Pan Western) and operate approximately 2.66 miles of private rail line owned by Pan Western, extending between milepost 0.0, and milepost 2.66, in Clark County, NV.² Pan Western intends to lease the railroad line to NPRC so that NPRC may initiate and provide common carrier rail operations on and over the line.

¹ The verified notice of exemption was originally filed under the name UP Nevada Railroad LLC. However, the Union Pacific Railroad Company objected to this name as a violation of its trademarks. Accordingly, by letters filed November 20, and November 22, 2006, counsel addressed issues relating to the identity and name of the Applicant in this proceeding and in the latter letter, requested that Nevada Pacific Railroad Corporation be substituted as the Applicant.

² This line was the subject of a notice of exemption that, according to the current verified notice, was never consummated. See Tonopah & Tidewater Railroad Co.—Lease and Operation Exemption—Pan Western Corporation, STB Finance Docket No. 34547 (STB served Sept. 30, 2004).

NPRC certifies that its projected revenues as a result of the transaction will not exceed those that would qualify it as a Class III carrier or $5 million annually. The transaction was scheduled to be consummated on or about November 21, 2006, the effective date of the exemption (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34958, must be filed with the Surface Transportation Board, 1925 K Street, NW., Washington, DC 20423-0001. In addition, a copy of each pleading must be served on Jeffrey O. Moreno, Thompson Hine LLP, 1920 N Street, NW., Suite 800, Washington, DC 20036.

Board decisions and notices are available on our website at WWW.STB.DOT.GOV.

Dated: December 7, 2006.
By the Board, David M. Konschnik, Director, Office of Proceedings.
Vernon A. Williams,
Secretary.

[FR Doc. E6-21174 Filed 12-13-06; 8:45 am]

BILLING CODE 4915-01-P